CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning the Operation AmeriCorps Evaluation. This two year evaluation seeks to assess the implementation of the new Operation AmeriCorps initiative, and to report on early results from the intended outcomes of each grantee's project. The evaluation will examine the extent to which multiple streams of national service are integrated and complement one another in each project; determine whether and how community capacity is being developed and sustained; and examine the Operation AmeriCorps grant making process to determine if this type of grant could be successfully used in future grants competitions. Researchers from CNCS will collect qualitative and quantitative data from grantees and their partners, AmeriCorps members, member supervisors, and program beneficiaries. Operation AmeriCorps grantees are required to participate in the evaluation as a condition of grant award.

Copies of the information collection request can be obtained by contacting the office listed in the Addresses section of this Notice.

DATES: Written comments must be submitted to the individual and office listed in the ADDRESSES section by December 28, 2015.

ADDRESSES: You may submit comments, identified by the title of the information collection activity, by any of the following methods:

(1) By mail sent to: Corporation for National and Community Service, Office of Research and Evaluation; Attention Joseph Breems, Policy Analyst, Room 10902B; 1201 New York Avenue NW., Washington, DC, 20525.

(2) By hand delivery or by courier to: CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Joseph Breems, 202-606-6992, or by email at jbreems@cns.gov.

SUPPLEMENTARY INFORMATION: CNCS is particularly interested in comments that:

• Evaluate whether the proposed collection of information is necessary for the efficient performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

This proposed two year evaluation seeks to assess the implementation of the new Operation AmeriCorps grant initiative, and to report on early results from the intended outcomes of each grantee's project. The evaluation will examine the extent to which multiple streams of national service are integrated and complement one another in each project; determine whether and how community capacity is being developed and sustained; and examine the Operation AmeriCorps grant making process to determine if this type of grant making process could be successful in the future.

Current Action

This is a new information collection request. Researchers from CNCS will collect qualitative and quantitative data from grantees and their partners, AmeriCorps members, member supervisors, and program beneficiaries. Quantitative data will be collected through a survey administered two times per year; qualitative information will be collected through interviews and focus groups.

Type of Review: New.

Agency: Corporation for National and Community Service.

Title: Operation AmeriCorps evaluation.

OMB Number: None.

Agency Number: None.

Affected Public: Organizations receiving Operation AmeriCorps grants and their partners involved in implementing the grant, including: The legal applicant organization; the legal sub-applicant organization; key operating partners identified by the legal applicant and/or sub-applicant; peripheral supporting organizations identified by key operating partners and the legal applicant and/or sub-applicant; AmeriCorps members working on an Operation AmeriCorps project; member supervisors working on an Operation AmeriCorps project; beneficiaries being served by an Operation AmeriCorps project.

Total Respondents: 170.

Frequency: Two times annually for survey; two times annually for grantee interviews, one time annually for other interviews and focus groups.

Average Time per Response: Averages 30 minutes for the survey; 90 minutes per interview; 60 minutes per focus group.

Estimated Total Burden Hours: 210 hours per year, or 12,600 minutes; see chart below.

Operation AmeriCorps National Evaluation—Projected Burden Hours
Instrument | Approx. time to administrate (hours) | Number of respondents | Number of administrations per respondent | Total burden (hours)
YEAR 1: | Fall Interview | 1 | 10 | 1 | 10
Survey | 0.5 | 10 | 2 | 10
Spring Interview | 1.5 | 80 | 1 | 120
Spring Focus Group | 1 | 70 | 1 | 70
Year 1 Total |  | 170 |  | 210
YEAR 2:
Fall Interview | 1 | 10 | 1 | 10
Survey | 0.5 | 10 | 2 | 10
Spring Interview | 1.5 | 80 | 1 | 120
Spring Focus Group | 1 | 70 | 1 | 70
Year 2 Total |  | 170 |  | 210
Study Total |  |  |  | 420

Total Burden Cost (capital/startup): None.

Total Burden Cost (operating/maintenance): None.

Comments submitted in response to this notice will be summarized and/or included in the request for Office of Management and Budget approval of the information collection request; they will also become a matter of public record.

Dated: October 20, 2015
Mary Hyde,
Director of Research and Evaluation.

[FR Doc. 2015-27155 Filed 10-23-15; 8:45 am]

BILLING CODE 6050-28-P